COMMISSION ON CIVIL RIGHTS

Sunshine Act Meeting

AGENCY: U.S. Commission on Civil Rights.

DATE AND TIME: Friday, April 14, 2000, 9:30 a.m.

PLACE: U.S. Commission on Civil Rights, 624 Ninth Street, N.W., Room 540, Washington, DC 20425.

STATUS:

Agenda

I. Approval of Agenda

II. Approval of Minutes of March 3, 2000 Meeting

III. Announcements

IV. Staff Director's Report

V. State Advisory Committee Reports

• Community Concerns About Law Enforcement in Sonoma County (California)

• Equal Educational Opportunity for Hispanic Students in the Oklahoma City Public Schools (Oklahoma)

VI. Police Practices and Civil Rights in New York City Report

VII. Hawaiian Civil Rights Issues

VIII. Future Agenda Items

CONTACT PERSON FOR FURTHER INFORMATION: David Aronson, Press and Communications (202) 376-8312.

Edward A. Hailes, Jr.,
Acting General Counsel.

[FR Doc. 00-8644 Filed 4-4-00; 2:04 pm]

BILLING CODE 6335-0-M